FEDERAL RESERVE SYSTEM

Formations of, Acquisitions by, and Mergers of Bank Holding Companies; Correction

This notice corrects a notice (FR Doc. E9-4588) published on page 9403 of the issue for Wednesday, March 4, 2009.

Under the Federal Reserve Bank of Atlanta heading, the entry for RMB Holdings, LLC, and ATB Management, LLC, both of Birmingham, Alabama, is revised to read as follows:

A. Federal Reserve Bank of Atlanta (Steve Foley, Vice President) 1000 Peachtree Street, N.E., Atlanta, Georgia 30309:

1. RMB Holdings, LLC, and ATB Management, LLC, both of Birmingham, Alabama, to acquire up to 30 percent of the voting shares of Americus Financial Services, Inc., and thereby indirectly acquire voting shares of Red Mountain Bank, N.A., both of Birmingham, Alabama.

Comments on this application must be received by March 30, 2009.

Board of Governors of the Federal Reserve System, March 11, 2009.
Robert deV. Frierson,
Deputy Secretary of the Board.

[FR Doc. E9-5652 Filed 3-16-09 8:45 am]

BILLING CODE 6210-01-S